DEPARTMENT OF ENERGY

Electricity Advisory Committee

AGENCY: Department of Energy, Office of Electricity Delivery and Energy Reliability.

ACTION: Notice of open meeting.

SUMMARY: This notice announces the first meeting of the Electricity Advisory Committee. The Federal Advisory Committee Act, Public Law 92-463, as amended, requires that public notice of these meetings be announced in the Federal Register.

Date and Time: Tuesday, May 20, 2008, 8:30 a.m.—12:30 p.m. EDT.

Location: The meeting will be held at the Sheraton National Hotel located at 900 South Orme Street, Arlington, Virginia 22204.

Agenda: See SUPPLEMENTARY INFORMATION below.

SUPPLEMENTARY INFORMATION: Background: The Electricity Advisory Committee (EAC) was established in 2008 by DOE to provide expert advice on complex scientific, technical, and policy issues that arise in the planning, managing, and implementation of DOE's electricity programs. The committee is composed of approximately 30 individuals of diverse backgrounds selected for their technical expertise and experience, established records of distinguished professional service, and their knowledge of issues that pertain to electricity.

Purpose of the Meeting: The first meeting of the Electricity Advisory Committee is expected to include discussion of the first year objectives of the Committee, introductions of Committee Members and a discussion of establishing subcommittees on specific subjects.

Tentative Agenda: The meeting will host a discussion on advice to the Department of Energy on matters related to electricity supply adequacy. The meeting agenda may change to accommodate committee business. For Committee agenda updates, see the Committee Web site at: http://www.oe.energy.gov/eac.htm.

Public Participation: Any member of the public interested in offering comments at the Committee meeting may do so on the day of the meeting, Tuesday, May 20, 2008. Approximately one-half hour will be reserved for public comments. Time allotted per speaker will depend on the number who wish to speak but is not expected to exceed three minutes. Anyone who is not able to attend the meeting or had insufficient time to address the committee is invited to send a written statement to Mr. David Meyer, U.S. Department of Energy, Office of Electricity Delivery and Energy Reliability, 1000 Independence Avenue, SW., Washington, DC 20585 or e-mail david.meyer@hq.doe.gov.

The following electronic file formats are acceptable: Microsoft Word (.doc), Corel Word Perfect (.wpd), Adobe Acrobat (.pdf), Rich Text Format (.rtf), plain text (.txt), Microsoft Excel (.xls), and Microsoft PowerPoint (.ppt). If you submit information that you believe to be exempt by law from public disclosure, you may only submit your comments by mail, and you must submit one complete copy, as well as one copy from which the information claimed to be exempt by law from public disclosure has been deleted. DOE is responsible for the final determination concerning disclosure or nondisclosure of the information and for treating it in accordance with the DOE's Freedom of Information regulations (10 CFR 1004.11).

Note: Delivery of the U.S. Postal Service mail to DOE continues to be delayed by several weeks due to security screening. DOE therefore encourages those wishing to comment to submit comments electronically by e-mail. If comments are submitted by regular mail, the Department requests that they be accompanied by a CD or diskette containing electronic files of the submission.

Minutes: The minutes of the first meeting of the Electricity Advisory Committee are expected to be available within 45 days of the meeting on the Committee Website at http://www.oe.energy.gov/eac.htm or by contacting Mr. David Meyer at (202) 586-1411 or e-mail david.meyer@hq.doe.gov.

FOR FURTHER INFORMATION CONTACT: Mr. David Meyer, Designated Federal Officer, U.S. Department of Energy, Office of Electricity Delivery and Energy Reliability, 1000 Independence Avenue, SW., Washington, DC 20585; telephone (202) 586-1411; e-mail david.meyer@hq.doe.gov.

Issued in Washington, DC on April 18, 2008.
Rachel Samuel,
Deputy Committee Management Officer.

[FR Doc. E8-8769 Filed 4-22-08; 8:45 am]

BILLING CODE 6450-01-P